ENVIRONMENTAL PROTECTION AGENCY

[FRL-9300-8]

National Advisory Council for Environmental Policy and Technology

AGENCY: Environmental Protection Agency (EPA).

ACTION: Notice of meeting.

SUMMARY: Under the Federal Advisory Committee Act, Public Law 92463, EPA gives notice of a public meeting of the National Advisory Council for Environmental Policy and Technology (NACEPT). NACEPT provides advice to the EPA Administrator on a broad range of environmental policy, technology, and management issues. NACEPT represents diverse interests from academia, industry, non-governmental organizations, and local, State, and tribal governments. The purpose of this meeting is to: (1) Discuss NACEPT's second advice letter on EPA workforce issues, and (2) continue developing recommendations on the need for innovative technologies to identify, measure, and reduce environmental risks faced by vulnerable populations. A copy of the agenda for the meeting will be posted at http://www.epa.gov/ofacmo/nacept/cal-nacept.htm.

DATES: NACEPT will hold a two-day public meeting on Thursday, May 19, 2011, from 8:30 a.m. to 6 p.m. and Friday, May 20, 2011, from 8:30 a.m. to 2 p.m.

ADDRESSES: The meeting will be held at the Hilton Garden Inn Washington Hotel, 815 14th Street NW., Washington, DC 20005.

FOR FURTHER INFORMATION CONTACT: Mark Joyce, Acting Designated Federal Officer, joyce.mark@epa.gov, (202) 564-2130, U.S. EPA, Office of Federal Advisory Committee Management and Outreach (1601M), 1200 Pennsylvania Avenue, NW., Washington, DC 20460.

SUPPLEMENTARY INFORMATION: Requests to make oral comments or to provide written comments to NACEPT should be sent to Megan Moreau at (202) 564-5320 or moreau.megan@epa.gov by Friday, May 13, 2011. The meeting is open to the public, with limited seating on a first-come, first-served basis. Members of the public wishing to attend should contact Megan Moreau at (202) 564-5320 or moreau.megan@epa.gov by May 13, 2011.

Meeting Access: For information on access or services for individuals with disabilities, please contact Megan Moreau at (202) 564-5320 or moreau.megan@epa.gov. To request accommodation of a disability, please contact Megan, preferably 10 days prior to the meeting, to give EPA as much time as possible to process your request.

Dated: April 21, 2011.
Mark Joyce,
Acting Designated Federal Officer.

[FR Doc. 2011-10563 Filed 4-29-11; 8:45 am]

BILLING CODE 6560-50-P